UNITED STATES TRADE REPRESENTATIVE

Request for Comment on Articles To Be Considered for Accelerated Tariff Elimination Under the North American Free Trade Agreement

AGENCY: Office of the United States Trade Representative (USTR).

ACTION: Notice of articles proposed for accelerated tariff elimination under the North American Free Trade Agreement and request for comment.

SUMMARY: Section 201(b) of the North American Free Trade Agreement Implementation Act (“the Act”) (19 U.S.C 3331(b)) grants the President, subject to the consultation and layover requirements of section 103(a) of the Act (19 U.S.C 3313(a)), the authority to proclaim any accelerated schedule for duty elimination that the United States may agree to with Mexico or Canada regarding the staging of any duty treatment set forth in Annex 302.2 of the North American Free Trade Agreement (“the NAFTA”). This notice is intended to inform the public of the list of products with respect to which the United States has received petitions to accelerate the elimination of duties for Mexican products entering the United States and for U.S. products entering Mexico, and to request comment on these articles.

DATES: Although USTR will accept any comments received during the course of its review, comments should be submitted on or before July 15, 2001, in order to be assured of timely consideration by USTR.

FOR FURTHER INFORMATION CONTACT: Kent Shigetomi, Director, Mexico and NAFTA Affairs, Office of Western Hemisphere Affairs, Office of the United States Trade Representative, Room 523, 600 17th Street, NW., Washington, DC 20508; telephone: (202) 395-3412; fax: (202) 395-9517. The list of products with respect to which the United States has received petitions can be obtained from the USTR Internet Web Page, at www.ustr.gov under [World Regions/Western Hemisphere/North American Free Trade Agreement/NAFTA Reports and Publications/2001 Tariff Acceleration].

SUPPLEMENTARY INFORMATION: Article 302(3) of the NAFTA provides that two or more Parties to the NAFTA may consider and agree to accelerate the elimination of customs duties set out in their schedules. Since the NAFTA was implemented, the NAFTA governments have completed three rounds of accelerated tariff elimination, in 1994, 1997, and 2000. All duties between the United States and Canada covered by the NAFTA were eliminated on January 1, 1998, so the last two tariff acceleration rounds consisted of two parallel agreements, one between the U.S. and Mexico, and the other between Canada and Mexico.

As part of the third round of tariff acceleration, on May 27, 1999, USTR published a Federal Register notice (64 FR 28857) soliciting petitions from interested persons regarding products for which accelerated tariff elimination would be appropriate. The Federal Register notice also allowed for annual consideration of new requests, with a closing date of March 1.

USTR received two petitions requesting accelerated elimination of duties on a number of products. The Annexes to this notice list the products for which petitions were filed. Annex I lists subheadings in the Mexican Tariff Schedule of the General Import Duty Act that are proposed for accelerated tariff elimination with respect to goods of the United States. Subsequent to the negotiation of a trade agreement between the European Union and Mexico in 2000, the United States identified 40 products for which the U.S. tariff was already zero, but Mexico's tariff on imports from the U.S. was higher than Mexico's tariff on imports from the European Union. The U.S. is seeking to accelerate the elimination of Mexican duties on these items. These goods are marked with an asterisk (*). Annex II to this notice lists the subheadings in the Harmonized Tariff Schedule of the United States (“HTS”) that are proposed for accelerated tariff elimination with respect to goods of Mexico.

The Mexican Tarifa de la Ley del Impuesto General de Importacion (Tariff Schedule of the General Import Duty Act) should be consulted for a description of the articles covered in the tariff subheadings in Annex I. A description of the articles covered by the HTS subheadings in Annex II is available on the web site of the United States International Trade Commission, www.usitc.gov. An Internet source for tariff subheading descriptions of the United States and Mexico is www.apectariff.org.

USTR invites comments on the advisability of accelerated tariff elimination with respect to the subheadings listed in the annexes to this notice. The U.S. and Mexico will consider accelerated tariff elimination for all products falling under these subheadings. However, acceleration for a subset of the articles covered in a particular subheading will be considered in the alternative, as necessary. Thus, comments should specify if only a subset of all products is of concern to the commenting party.

Request for Comment

Comments should be submitted either via electronic mail to nafta2001@ustr.gov, or in ten type-written copies to the address specified above. USTR prefers that comments be submitted via electronic mail whenever possible. All submissions must specify: (1) The tariff subheadings to which the comments refer, and the importing and exporting NAFTA countries (e.g., goods of the United States exported to Mexico, or goods of Mexico exported to the United States); (2) the name, address and telephone number of the person, firm or organization making the comments; and (3) an indication as to whether the submitter represents a producer, importer, exporter, consumer (or any combination), or other party (please specify interest), for each country (for example, a producer and exporter in the United States, and an importer in Mexico). Submissions not meeting these requirements will not be considered.

Comments submitted to USTR will be available for public inspection in the USTR public reading room. Submitters who wish to exempt information from public disclosure should comply with the requirements of 19 CFR 2003.6 regarding submissions containing business confidential information. In addition, such persons should submit a public version of their comments. Submissions containing business confidential information should be submitted in hard copy, rather than by electronic mail.

ITC and Advisory Committee Advice

Pursuant to section 103 of the Act (19 U.S.C. 3313), USTR will request the advice of the United States International Trade Commission concerning the probable economic effect on U.S. industries producing like or directly competitive articles, and on consumers, of the proposed accelerated tariff eliminations with respect to the subheadings listed in Annex II. USTR will also obtain the advice of the appropriate private sector advisory committees.

Bennett Harman,
Acting Assistant U.S. Trade Representative for the Western Hemisphere.

Annex I; List of Proposed Subheadings for Which Mexico Would Accelerate the Elimination of Duties for NAFTA Qualifying Goods of the United States

3002.10.08* | 6404.11.01 | 8527.29.99*
3004.90.20* | 6404.19.99 | 8531.90.99*
3005.10.99* | 6404.20.01 | 8536.20.99*
3006.30.01* | 6406.10.01 | 8536.90.11*
3209.90.99* | 7307.22.10* | 8536.90.16*
3401.11.01* | 8426.41.02 | 8536.90.17*
3402.12.02* | 8426.41.99 | 8548.90.01*
3402.20.99* | 8427.10.03 | 8548.90.03*
3904.90.99* | 8427.10.99 | 8607.11.01*
3908.10.04* | 8427.20.01 | 8704.23.99*
4819.20.01* | 8427.20.01* | 8704.32.03*
6401.10.01 | 8429.20.01* | 8704.32.05*
6401.91.01 | 8481.80.24* | 8705.10.01*
6402.92.99 | 8481.90.04* | 8705.20.99*
6402.99.99 | 8504.40.11* | 9032.10.03*
6402.30.99 | 8509.10.01* | 9501.00.02*
6402.91.01 | 8509.40.01* | 9502.10.01*
6402.99.99 | 8509.40.03* | 9503.41.01*
6404.11.99 | 8509.90.99* |

Annex II; List of Proposed Subheadings for Which the United States Would Accelerate the Elimination of Duties for NAFTA Qualifying Goods of Mexico

6401.10.00 | 6402.91.90 | 6404.19.25
6401.91.00 | 6402.99.20 | 6404.19.30
6401.92.90 | 6402.99.30 | 6404.19.60
6401.99.30 | 6402.99.60 | 6404.19.80
6401.99.60 | 6402.99.70 | 6404.20.60
6401.99.90 | 6402.99.80 | 6404.19.35
6402.30.50 | 6402.99.90 | 6404.19.50
6402.30.70 | 6404.11.20 | 6404.19.70
6402.30.80 | 6404.44.50 | 6404.20.20
6402.30.90 | 6404.11.60 | 6404.20.40
6402.91.50 | 6404.11.70 | 6406.10.05
6402.91.60 | 6404.11.80 | 6406.10.10
6402.91.70 | 6404.19.15 | 6406.10.20
6402.91.80 | 6404.19.20 | 6406.10.45

[FR Doc. 01-16322 Filed 6-28-01; 8:45 am]

BILLING CODE 3901-01-P